DEPARTMENT OF COMMERCE

International Trade Administration

Environmental Technologies Trade Advisory Committee (EETAC)

AGENCY: International Trade Administration, US Department of Commerce.

ACTION: Notice of Recruitment for Additional Members for ETTAC.

SUMMARY: The Environmental Technologies Trade Advisory Committee (ETTAC) was established by Charter pursuant to the Jobs Through Trade Expansion Act of 1994 (22 U.S.C. 2151). The ETTAC is administered by the U.S. Department of Commerce under the provisions of the Federal Advisory Committee Act (FACA). The ETTAC was established on May 31, 1994; it was rechartered on June 4, 1996, and on July 15, 1998, for two years.

The ETTAC advises the Environmental Trade Working Group of the Trade Promotion Coordination Committee (TPCC) through the Secretary of Commerce. A Recommendations Report was presented to the Secretary of Commerce in October, 1996; in March 1999, a white paper on Impediments to Environmental Trade was presented to the TPCC. Additional reports will be presented regularly.

The Department of Commerce is seeking additional candidates from medium and large sized business from the following subsectors of the environmental industry:

(1) Analytic Services

(2) Trade Associations focused on international markets

(3) Air Pollution Control/ Monitoring Equipment

(4) Process and Prevention Technologies

(5) Environmental Energy Sources

(6) Solid and Hazardous Waste Equipment and Management

Committee members serve in a representative capacity, and must be able to generally represent the views and interests of a certain subsector. We are seeking CEO, President, Executive Vice President and International Management level candidates.

Please send a fact sheet on your company that details your company's activity in the subsector listed above, as well as a short biographical sketch on the executive who wishes to become a candidate. Materials can be faxed to the number listed below.

Deadline: This request will be open for three weeks from the date of publication of the Federal Register.

FOR FURTHER INFORMATION CONTACT: The Office of Environmental Technologies Exports, Room 1003, US Department of Commerce, 14th and Constitution, NW, Washington, DC 20230; Phone 202-482-5225.

Materials may be faxed to 202-482-5665, attention Sage Chandler

Dated: January 20, 2000.
E. Sage Chandler,
Office of Environmental Technologies Exports.

[FR Doc. 00- 2047 Filed 1-28-00; 8:45 am]

BILLING CODE 3510-25-P